POSTAL SERVICE

39 CFR Part 20

Global Direct—Canada Admail Service

AGENCY: Postal Service.

ACTION: Final rule.

SUMMARY: Global Direct—Canada Admail is a service based on the Admail service offered by Canada Post Corporation. Canada Post Corporation is changing rates and the rate structure for items mailed in this service. Accordingly, the Postal Service is changing Global Direct—Canada Admail to comply with these changes.

EFFECTIVE DATE: August 2, 2000.

ADDRESSES: Written comments should be mailed or delivered to the Manager, International Pricing, International Business, U.S. Postal Service, 475 L'Enfant Plaza SW, Room 370-IBU, Washington, DC 20260-6500. Copies of all written comments will be available for public inspection between 9:00 a.m. and 4:00 p.m., Monday through Friday, in the International Business Unit, 10th Floor, 901 D Street SW, Washington, DC.

FOR FURTHER INFORMATION CONTACT: Walter J. Grandjean, (202) 314-7256.

SUPPLEMENTARY INFORMATION: In cooperation with Canada Post Corporation (CPC), the Postal Service offers Global Direct—Canada Admail. This international mail service is primarily intended for major printing firms, direct marketers, mail order companies, and other high-volume mailers seeking easier access to the Canadian domestic postal system. It is intended to provide mail delivery in an average of 5 to 10 business days in major urban areas throughout Canada. Ancillary services for local business reply and the return of undeliverable mail are also provided for use with Global Direct—Canada Admail.

CPC has announced a rate change for Admail. This makes it necessary for the Postal Service to adjust the rates it charges for Global Direct—Canada Admail.

The Postal Service is also eliminating discounts for Global Direct—Canada Admail. Discounts will no longer be available for Global Direct—Canada Mail; however, revenue from Global Direct—Canada Admail will count toward the revenue requirements for International Priority Airmail and International Surface Air Lift discounts. This enables the Postal Service to reduce the rate for Global Direct—Canada Admail.

Effective August 2, 2000, the following rates are adopted for Global Direct—Canada Admail:

| Standard | Large
Letter Carrier Presort (LCP)—Up to First 1.76 oz. (0.11 lbs.) (50 grams):
Delivery Mode Direct | $0.216 | $0.267
Delivery Facility | 0.245 | 0.296
DCF | 0.245 | 0.296
Residue | 0.304 | 0.354
Over 1.76 oz. (.11 lbs.) (50 grams) | 0.548 | 0.713
Per additional pound
National Distribution Guide (NDG):
First 1.76 oz.(0.11 lbs.) (50 grams) | 0.275 | 0.325
Over 1.76 oz. (0.11 lbs.) (50 grams) | 0.548 | 0.713
Per additional pound
Note: An extra charge of 3.5 cents may be charged for the number of items not meeting address accuracy requirements.

Although the Postal Service is exempted by 39 U.S.C. 410(a) from the advance notice requirements of the Administrative Procedure Act regarding proposed rulemaking (5 U.S.C. 553), the Postal Service invites public comment at the above address.

The Postal Service is amending Subchapter 612, Global Direct—Canada Admail, International Mail Manual, which is incorporated by reference in the Code of Federal Regulations. See 39 CFR 20.1.

List of Subjects in 39 CFR Part 20

Foreign relations, International postal service.

PART 20—[AMENDED]

1. The authority citation for 39 CFR part 20 continues to read as follows:

Authority: 5 U.S.C. 552(a); 39 U.S.C. 401, 404, 407, 408.

2. Chapter 6 of the International Mail Manual is amended by as follows:

CHAPTER 6—SPECIAL PROGRAMS

610 Global Direct Service

* * * * *

612 Global Direct—Canada Admail

* * * * *

612.3 Postage

612.31 Rates

The rate of postage is determined by size, weight, and level of the items being mailed as specified in Exhibit 612.3. Global Direct postage dollars may be added to the ISAL/IPA total for the purpose of determining the discount earned; however, the discount will not be applied to the Global Direct—Canada published rates.

Exhibit 612.3 Canada Admail Rates

| Standard | Large
Letter Carrier Presort (LCP)—Up to First 1.76 oz. (0.11 lbs.) (50 grams):
Delivery Mode Direct | $0.216 | $0.267
Delivery Facility | 0.245 | 0.296
DCF | 0.245 | 0.296
Residue | 0.304 | 0.354
Over 1.76 oz. (.11 lbs.) (50 grams) | 0.548 | 0.713
Per additional pound
National Distribution Guide (NDG):
First 1.76 oz.(0.11 lbs.) (50 grams) | 0.275 | 0.325
Over 1.76 oz. (0.11 lbs.) (50 grams) | 0.548 | 0.713
Per additional pound
Note: An extra charge of 3.5 cents may be charged for the number of items not meeting address accuracy requirements.

* * * * *

A transmittal letter changing the relevant pages in the International Mail Manual will be published and automatically transmitted to all subscribers. Notice of issuance of the transmittal will be published in the Federal Register as provided by 39 CFR 20.3.

Stanley F. Mires,
Chief Counsel, Legislative.

[FR Doc. 00-19578 Filed 8-1-00; 8:45 am]

BILLING CODE 7710-12-U